ENVIRONMENTAL PROTECTION AGENCY

[EPA-HQ-OAR-2017-0599; FRL-9985-43-OEI]

Information Collection Request Submitted to OMB for Review and Approval; Comment Request; Renewable Fuel Standard Program

AGENCY: Environmental Protection Agency (EPA).

ACTION: Notice.

SUMMARY: The Environmental Protection Agency (EPA) has submitted an information collection request (ICR), Renewable Fuel Standard Program (EPA ICR No. 2546.01, OMB Control No. 2060-NEW) to the Office of Management and Budget (OMB) for review and approval in accordance with the Paperwork Reduction Act. This is a request for approval of an ICR that consolidates several existing collections. Public comments were previously requested via the Federal Register on December 8, 2017 during a 60-day comment period. This notice allows for an additional 30 days for public comments. A fuller description of the ICR is given below. An agency may not conduct or sponsor and a person is not required to respond to a collection of information unless it displays a currently valid OMB control number.

DATES: Additional comments may be submitted on or before December 13, 2018.

ADDRESSES: Submit your comments, referencing Docket ID No. EPA-HQ-OAR-2017-0599, to (1) EPA online using www.regulations.gov (our preferred method), by email to a-and-r-docket@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Anne-Marie Pastorkovich, Office of Air and Radiation/Office of Transportation and Air Quality, Environmental Protection Agency, 1200 Pennsylvania Ave. NW, (6405A), Washington, DC 20460; telephone number: 202-343-9623; fax number: 202-343-2800; email address: pastorkovich.anne-marie@epa.gov.

SUPPLEMENTARY INFORMATION: Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For information about EPA's public docket, visit http://www.epa.gov/dockets.

Abstract: This information collection request (ICR) consolidates and updates recordkeeping and reporting burden and cost estimates related to the Renewable Fuel Standard (RFS) program into one, consistent, and easy-to-understand format. This consolidation will assist interested parties in better understanding all the information collection activities associated with RFS.

Under the RFS program, a certain volume of renewable fuel is required to replace or reduce the quantity of petroleum-based transportation fuel, heating oil or jet fuel. Obligated parties under the RFS program are refiners or importers of gasoline or diesel fuel. Obligated parties, and exporters of renewable fuel, must meet an annual Renewable Volume Obligation (RVO). Parties meet their RVO by blending renewable fuels into transportation fuel or by obtaining credits called Renewable Identification Numbers (RINs). EPA calculates and establishes RVOs every year through rulemaking, based on the CAA volume requirements and projections of gasoline and diesel production for the coming year. The standards are converted into a percentage and obligated parties must demonstrate compliance annually. RINs are used to demonstrate compliance with the standard and are generated by producers and importers of renewable fuels and traded by various parties. To track compliance with the RFS program, various parties involved with the production and blending of renewable fuels, and who generate, trade or use RINs, must register with EPA and submit various types of compliance reports related to the activity they engage in under the program. Recordkeeping requirements under the RFS program include product transfer documents (PTDs) and retention of records.

Recordkeeping and reporting are based upon the activity the party engages in under the regulations. A party may be registered in more than one activity. For example, a single party may be both an obligated party and a RIN generator. Such a party would register once, but would submit registration information describing both activities they plan to engage in under the program. The party would then submit reports based upon which activities they actually engaged in during the compliance (calendar) year. Basing the recordkeeping and reporting upon a party's activities ensures that parties must sustain only the recordkeeping and reporting burden necessary to implement the RFS program.

This ICR will supersede and replace several existing ICRs, including: RFS2 Voluntary RIN Quality Assurance Program, OMB Control Number 2060-0688; Cellulosic Production Volume Projections and Efficient Producer Reporting, OMB Control Number 2060-0707; Renewable Fuels Standard Program (RFS2-Supplemental), OMB Control Number 2060-0637; Renewable Fuel Standard (RFS2) Program, OMB Control Number 2060-0640; Regulation of Fuel and Fuel Additives: 2011 Renewable Fuel Standards—Petition for International Aggregate Compliance Approach, OMB Control Number 2060-0655; and Production Outlook Report for Unregistered Renewable Fuels Producers, OMB Control Number 2060-0660.

Form Numbers: RFS0104: RFS Activity Report, RFS0303: RFS Annual Compliance Report, RFS0601: RFS Renewable Fuel Producer Supplemental Report, RFS0701: RFS Renewable Fuel Producer Co-Products Report, RFS0801: RFS Renewable Biomass Report, RFS0901: RFS Production Outlook Report, RFS1400: Reporting Fuels under 80.1451(b)(1)(ii)(T), RFS1500: Reporting Fuels under 80.1451(b)(1)(ii)(T)—Finished Fuel Blending, RFS1600: Reporting Fuels under 80.1451(b)(1)(ii)(T)—Blender Contact, RFS2000: Batch Verification, RFS2100: Aggregate RIN Verification, RFS2200: On-Site Audit Report, RFS2300: List of Potentially Invalid RINs, RFS2400: Mass Balance, RFS2500: RFS Efficient Producer Data Report, and RFS2700: RFS Cellulosic Biofuel Producer Questionnaire.

Respondents/affected entities: RIN Generators (producers and importers of renewable fuels), Obligated Parties (refiners and importers of gasoline and diesel transportation fuels), RIN Owners, Renewable Fuel Exporters, QAP Providers, and petitioners under the international aggregate compliance approach.

Respondent's obligation to respond: The RFS program assigns mandatory reporting that is based upon activity.

Estimated number of respondents: 19,542.

Frequency of response: On occasion, quarterly, annual.

Total estimated burden: 566,665 hours (per year). Burden is defined at 5 CFR 1320.03(b).

Total estimated cost: $57,457,330 (per year), which includes $0 annualized capital or operation & maintenance costs.

Courtney Kerwin,
Director, Regulatory Support Division.

[FR Doc. 2018-24655 Filed 11-9-18; 8:45 am]

BILLING CODE 6560-50-P